DEPARTMENT OF VETERANS AFFAIRS

[OMB Control No. 2900-0620]

Agency Information Collection Activity: Payment or Reimbursement for Emergency Services for Nonservice-Connected Conditions in Non-Department Facilities

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed reinstatement of a currently approved collection, and allow 60 days for public comment in response to the notice. DATES: Written comments and recommendations on the proposed collection of information should be received on or before October 30, 2018.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0620” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: 38 U.S.C. 1725.

Title: Payment or Reimbursement for Emergency Services for Nonservice-Connected Conditions in Non-Department Facilities, 38 U.S.C. 1725.

OMB Control Number: 2900-0620.

Type of Review: Reinstatement of a currently approved collection.

Abstract: 38 U.S.C. Chapter 17 authorizes VA to provide hospital care, medical services, domiciliary care and nursing home care to eligible veterans. Public Law 106-117 “The Veterans Millennium Health Care and Benefits Act” amended 38 U.S.C. by adding § 1725 establishing reimbursement authority for an individual who is an active Department health-care participant who is personally liable for emergency treatment furnished in a non-Department facility provided that the veteran is (1) enrolled in the VA health care system as established under § 1705(a) of this title and (2) the veteran is personally liable for emergency treatment furnished the veteran in a non-Department facility and (3) the veteran does not have coverage under a health-plan contract that would fully extinguish the medical liability for the emergency treatment and (4) the veteran has no other contractual or legal recourse against a third party that would extinguish such liability to the provider and (5) the veteran is not eligible for reimbursement for medical care or services under § 1728 of this title. Further, PL 106-117 directs VA to delineate the circumstances under which such payments may be made, to include such requirements on requesting reimbursement as the Secretary shall establish. Subject to this, the Secretary may only provide reimbursement after the veteran or the provider of emergency treatment has exhausted without success all claims and remedies reasonably available to the veteran or provider against a third party for payment of such treatment.

Affected Public: Individuals and households.

Estimated Annual Burden: 158,704 hours.

Estimated Average Burden Per Respondent: 15 minutes.

Frequency of Response: Annually.

Estimated Number of Respondents: 634,816.

By direction of the Secretary.
Cynthia D. Harvey-Pryor,
Department Clearance Officer, Office of Quality, Privacy and Risk, Department of Veterans Affairs.

[FR Doc. 2018-18916 Filed 8-30-18; 8:45 am]

BILLING CODE 8320-01-P